DEPARTMENT OF ENERGY

Federal Energy Regulatory Commission

Combined Notice of Filings #2

Take notice that the Commission received the following electric corporate filings:

Docket Numbers: EC17-129-000.

Applicants: Virginia Electric and Power Company.

Description: Application for Authorization Under Section 203 of the Federal Power Act and Requests for Waivers, Shortened Comment Period and Expedited Consideration of Virginia Electric and Power Company.

Filed Date: 6/9/17.

Accession Number: 20170609-5141.

Comments Due: 5 p.m. ET 6/30/17.

Take notice that the Commission received the following electric rate filings:

Docket Numbers: ER17-1782-000.

Applicants: California Independent System Operator Corporation.

Description: § 205(d) Rate Filing: 2017-06-09 Amended and Restated Participating Generator Agreement Energia Azteca to be effective 8/9/2017.

Filed Date: 6/9/17.

Accession Number: 20170609-5081.

Comments Due: 5 p.m. ET 6/30/17.

Docket Numbers: ER17-1783-000.

Applicants: Duke Energy Carolinas, LLC.

Description: § 205(d) Rate Filing: DEC RS Nos. 315, 316, 317 and 335 Revised PPA Filing to be effective 7/1/2017.

Filed Date: 6/9/17.

Accession Number: 20170609-5082.

Comments Due: 5 p.m. ET 6/30/17.

Docket Numbers: ER17-1784-000.

Applicants: NRG Delta LLC.

Description: Tariff Cancellation: Notice of Cancellation to be effective 6/10/2017.

Filed Date: 6/9/17.

Accession Number: 20170609-5099.

Comments Due: 5 p.m. ET 6/30/17.

Docket Numbers: ER17-1785-000.

Applicants: Coachella Wind, LLC.

Description: Baseline eTariff Filing: MBR Application to be effective 12/31/9998.

Filed Date: 6/9/17.

Accession Number: 20170609-5109.

Comments Due: 5 p.m. ET 6/30/17.

Docket Numbers: ER17-1786-000.

Applicants: SWG Arapahoe, LLC.

Description: § 205(d) Rate Filing: Changes to Market Based Rate Tariff to be effective 6/12/2017.

Filed Date: 6/9/17.

Accession Number: 20170609-5117.

Comments Due: 5 p.m. ET 6/30/17.

Docket Numbers: ER17-1787-000.

Applicants: Innovative Solar 37, LLC.

Description: Compliance filing: Notice of Change in Status and Amendment to Tariff to be effective 5/11/2017.

Filed Date: 6/9/17.

Accession Number: 20170609-5127.

Comments Due: 5 p.m. ET 6/30/17.

Docket Numbers: ER17-1788-000.

Applicants: California Independent System Operator Corporation.

Description: § 205(d) Rate Filing: 2017-06-07 Pre-RA Import Commitment Definition Modification Amendment to be effective 7/10/2017.

Filed Date: 6/9/17.

Accession Number: 20170609-5128.

Comments Due: 5 p.m. ET 6/30/17.

Docket Numbers: ER17-1789-000.

Applicants: Interstate Power and Light Company.

Description: § 205(d) Rate Filing: IPL Changes in Depreciation Rates for Wholesale Production Service to be effective 8/8/2017.

Filed Date: 6/9/17.

Accession Number: 20170609-5132.

Comments Due: 5 p.m. ET 6/30/17.

Docket Numbers: ER17-1790-000.

Applicants: United Energy Trading, LLC.

Description: Baseline eTariff Filing: Application for Market Based Rate to be effective 8/8/2017.

Filed Date: 6/9/17.

Accession Number: 20170609-5134.

Comments Due: 5 p.m. ET 6/30/17.

Docket Numbers: ER17-1791-000.

Applicants: Fountain Valley Power, L.L.C.

Description: § 205(d) Rate Filing: Changes to Market Based Rate Tariff to be effective 6/12/2017.

Filed Date: 6/9/17.

Accession Number: 20170609-5136.

Comments Due: 5 p.m. ET 6/30/17.

Docket Numbers: ER17-1792-000.

Applicants: SWG Colorado, LLC.

Description: § 205(d) Rate Filing: Changes to Market Based Rate Tariff to be effective 6/12/2017.

Filed Date: 6/9/17.

Accession Number: 20170609-5137.

Comments Due: 5 p.m. ET 6/30/17.

Docket Numbers: ER17-1793-000.

Applicants: Midcontinent Independent System Operator, Inc.

Description: § 205(d) Rate Filing: 2017-06-09_HVDC Attachment X Filing to be effective 6/16/2017.

Filed Date: 6/9/17.

Accession Number: 20170609-5139.

Comments Due: 5 p.m. ET 6/30/17.

Take notice that the Commission received the following qualifying facility filings:

Docket Numbers: QF17-673-000.

Applicants: Beaver Creek Wind II, LLC.

Description: Response of Beaver Creek Wind II, LLC to May 10, 2017 Deficiency Letter.

Filed Date: 6/9/17.

Accession Number: 20170609-5124.

Comments Due: 5 p.m. ET 6/9/17.

Docket Numbers: QF17-674-000.

Applicants: Beaver Creek Wind III, LLC.

Description: Response of Beaver Creek Wind III, LLC to May 10, 2017 Deficiency Letter.

Filed Date: 6/9/17.

Accession Number: 20170609-5123.

Comments Due: 5 p.m. ET 6/9/17.

Take notice that the Commission received the following PURPA 210(m)(3) filings:

Docket Numbers: QM17-5-000.

Applicants: East Kentucky Power Cooperative, Inc.

Description: Application to Terminate Mandatory PURPA Purchase Obligation of East Kentucky Power Cooperative, Inc.

Filed Date: 6/9/17.

Accession Number: 20170609-5119.

Comments Due: 5 p.m. ET 7/7/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 9, 2017 .
Kimberly D. Bose,
Secretary.

[FR Doc. 2017-12391 Filed 6-14-17; 8:45 am]

BILLING CODE 6717-01-P